DEPARTMENT OF THE INTERIOR

Bureau of Land Management

[LLWO220000.L10200000.PH0000.00000000]

Renewal of OMB Control Number 1004-0041

AGENCY: Bureau of Land Management, Interior.

ACTION: 60-Day Notice and Request for Comments.

SUMMARY: In compliance with the Paperwork Reduction Act of 1995, the Bureau of Land Management (BLM) is announcing its intention to request approval to continue the collection of information from applicants for grazing permits and leases, and from holders of grazing permits and leases. The Office of Management and Budget (OMB) previously approved this information collection activity, and assigned it control number 1004-0041.

DATES: Submit comments on the proposed information collection by March 28, 2011.

ADDRESSES: Comments may be submitted by mail, fax, or electronic mail.

Mail: U.S. Department of the Interior, Bureau of Land Management, Mail Stop 401-LS, 1849 C St., NW., Washington, DC 20240.

Fax: to Jean Sonneman at 202-912-7102.

Electronic mail: Jean_Sonneman@blm.gov.

Please indicate “Attn: 1004-0041” regardless of the form of your comments.

FOR FURTHER INFORMATION CONTACT: To receive a copy of the information collection request, contact Kimberly Hackett, Division of Rangeland Resources, at 202-912-7216. Persons who use a telecommunication device for the deaf (TDD) may call the Federal Information Relay Service (FIRS) at 1-800-877-8339, to leave a message for Ms. Hackett.

SUPPLEMENTARY INFORMATION: OMB regulations at 5 CFR 1320, which implement provisions of the Paperwork Reduction Act, 44 U.S.C. 3501-3521, require that interested members of the public and affected agencies be given an opportunity to comment on information collection and recordkeeping activities (see 5 CFR 1320.8(d) and 1320.12(a)). This notice identifies an information collection that the BLM will be submitting to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

The following information is provided for the information collection:

Title: Authorizing Grazing Use (43 CFR subparts 4110 and 4130).

Forms:

• Form 4130-1, Grazing Schedule, Grazing Application;

• Form 4130-1a, Grazing Preference Application and Preference Application (Base Property Preference Attachment and Assignment);

• Form 4130-1b, Grazing Application Supplemental Information;

• Form 4130-3a, Automated Grazing Application;

• Form 4130-4, Application for Exchange-of-Use Grazing Agreement; and

• Form 4130-5, Actual Grazing Use Report.

OMB Control Number: 1004-0041.

Abstract: The Taylor Grazing Act (43 U.S.C. 315-315n) and Subchapters III and IV of the Federal Land Policy and Management Act (43 U.S.C. 1731-1753) authorize the BLM to manage domestic livestock grazing on public lands consistent with land use plans, the principles of multiple use and sustained yield, environmental values, economic considerations, and other relevant factors. In order to meet those goals, it is necessary to collect information on matters such as permittee and lessee qualifications for a grazing permit or lease, base property used in conjunction with public lands, and the actual use made by livestock authorized to graze on the public lands.

Frequency of Collection: The BLM collects the information on Forms 4130-1, 4130-1a, 4130-1b, and 4130-4 on occasion, and collects the information on Forms 4130-3a and 4130-5 annually. Responses are required in order to obtain or retain a benefit.

Estimated Number and Description of Respondents: Any U.S. citizen or validly licensed business may apply for a BLM grazing permit or lease. The BLM administers nearly 18,000 permits and leases for grazing domestic livestock, mostly cattle and sheep, at least part of the year on public lands. Permits and leases generally cover a 10-year period and are renewable if the BLM determines that the terms and conditions of the expiring permit or lease are being met.

Estimated Reporting and Recordkeeping “Hour” Burden: 33,810 responses and 7,886 hours annually. The following table details the individual components and respective hour burdens of this information collection request:

A. | B. | C. | D.
Type of response | Number of responses | Time per response (min) | Total hours (B × C)
Grazing Schedule—Grazing Application (43 CFR 4130.1-1) Form 4130-1 | 3,000 | 15 | 750
Grazing Preference Application and Preference Transfer Application (Base Property Preference Attachment and Assignment) (43 CFR 4110.1(c), 4110.2-1(c), and 4110.2-3) Form 4130-1a and related nonform information | 900 | 40 | 600
Grazing Application Supplemental Information (43 CFR 4110.1 and 4130.7) Form 4130-1b | 900 | 30 | 450
Automated Grazing Application (43 CFR 4130.4) Form 4130-3a | 14,000 | 10 | 2,333
Application for Exchange-of-Use Grazing Agreement (43 CFR 4130.6-1) Form 4130-4 | 10 | 18 | 3
Actual Grazing Use Report (43 CFR 4130.3-2(d) Form 4130-5 | 15,000 | 15 | 3,750
Totals | 33,810 |  | 7,886

Before including your address, telephone number, e-mail address, or other personal identifying information in your comments, be advised that your entire comment—including your personal identifying information—may be made publicly available at any time. While you can ask in your comment to withhold from public review your personal identifying information, we cannot guarantee that we will be able to do so.

Jean Sonneman,
Bureau of Land Management, Acting Information Collection Clearance Officer.

[FR Doc. 2011-1454 Filed 1-24-11; 8:45 am]

BILLING CODE 4310-84-P